DEPARTMENT OF THE INTERIOR

Bureau of Land Management

43 CFR Part 3200

[WO-310-1310-PB-01-24 1A]

RIN 1004-AB18

Geothermal Resources Leasing and Operations; Correction

AGENCY: Bureau of Land Management, Interior.

ACTION: Correcting amendment.

SUMMARY: This document contains a correction to the current regulations for geothermal resources leasing and operations published in the Federal Register on September 30, 1998 (63 FR 52356).

DATES: Effective October 1, 1998.

FOR FURTHER INFORMATION CONTACT: You may contact Richard Hoops, Bureau of Land Management (BLM), Nevada State Office, (775) 861-6568 (Commercial or FTS) or Shirlean Beshir, Regulatory Affairs Group (WO-630), (202) 452-5033 (Commercial or FTS). Persons who use a telecommunication device for the deaf (TDD) may call the Federal Information Relay Service (FIRS) at 1-800-877-8330, 24 hours a day, seven days a week, to contact Mr. Hoops or Ms. Beshir.

SUPPLEMENTARY INFORMATION:

Background

We need to clarify the current regulations that are the subject of this correction. In paragraph (a) of § 3261.18, we clarify that the amount of the surety or personal bond listed in this section is the minimum bond amount you must hold by adding the word “minimum.” As written, the bond amount of the surety or personal bond BLM requires appears to be fixed. BLM indicates in §§ 3214.13 and 3214.14 that the bond amounts indicated in § 3261.18 and other sections are minimum bond amounts. § 3214.14 makes clear that BLM has the authority to raise the bond amount if necessary. Today's action removes any ambiguity or inconsistency between § 3261.18 and other sections.

Need for Correction

As published, the current regulations may confuse or mislead the public.

In paragraph (a) of § 3261.18, we added the word “minimum” to clarify the minimum bond amount for a surety or personal bond to be consistent with the language of § 3214.13.

List of Subjects in 43 CFR Part 3200

Environmental protection, geothermal energy, government contracts, public lands-mineral resources, reporting and recordkeeping requirements, surety bonds.

Dated: April 12, 2001.
Piet deWilt,
Acting Assistant Secretary, Land and Minerals Management.

Accordingly, 43 CFR Part 3200 is corrected by making the following amendment:

PART 3200—GEOTHERMAL RESOURCE LEASING

1. The authority citation for part 3200 continues to read as follows:

Authority: 5 U.S.C. 552; 25 U.S.C. 396d, 2107; 30 U.S.C. 1023.

2. Revise paragraph (a) introductory text of § 3261.18 to read as follows:

§ 3261.18 Do I need a bond before I build a well pad or drill a well?

* * * * *

(a) Send us either a surety or personal bond in the following minimum amount:

* * * * *

[FR Doc. 01-12276 Filed 5-15-01; 8:45 am]

BILLING CODE 4310-84-P